COMMISSION ON CIVIL RIGHTS

Notice of Public Meeting of the Michigan Advisory Committee for a Meeting To Discuss Approval of a Project Proposal Regarding the Civil Rights Impact of Civil Forfeiture Practices in the State; Correction

AGENCY: U.S. Commission on Civil Rights.

ACTION: Notice of meeting; correction.

SUMMARY: The U.S. Commission on Civil Rights published a document in the Federal Register of August 5, 2015, concerning a meeting of the Michigan Advisory Committee to discuss and vote on approval of a project proposal regarding the civil rights impact of civil forfeiture practices in the state. The time and date of this meeting has been changed.

FOR FURTHER INFORMATION CONTACT: Melissa Wojnaroski, 312-353-8311.

Correction

In the Federal Register of August 5, 2015, in FR doc. 2015-19185, on page 46538, in the third column, correct the first sentence of the first paragraph to read:

Friday October 30th at 10 a.m. Eastern time.

Correction

In the Federal Register of August 5, 2015, in FR doc. 2015-19185, on page 46539, in the first column, correct DATES to read:

Friday October 30, 2015 at 10 a.m. Eastern time.

Dated September 30, 2015.
David Mussatt,
Chief, Regional Programs Unit.

[FR Doc. 2015-25248 Filed 10-2-15; 8:45 am]

BILLING CODE 6335-01-P